DEPARTMENT OF ENERGY

Federal Energy Regulatory Commission

Combined Notice of Filings #2

Take notice that the Commission received the following electric rate filings:

Docket Numbers: ER10-1821-020.

Applicants: Goshen Phase II LLC.

Description: Updated Market Power Analysis for Northwest Region of Goshen Phase II LLC.

Filed Date: 6/28/19.

Accession Number: 20190628-5330.

Comments Due: 5 p.m. ET 8/27/19.

Docket Numbers: ER10-2249-008.

Applicants: Portland General Electric Company.

Description: Updated Market Power Analysis in the Northwest Region for Portland General Electric Company.

Filed Date: 6/28/19.

Accession Number: 20190628-5334.

Comments Due: 5 p.m. ET 8/27/19.

Docket Numbers: ER13-520-009; ER10-2605-013; ER12-1626-010; ER13-1266-021; ER13-1267-009; ER13-1268-009; ER13-1269-009; ER13-1270-009; ER13-1271-009; ER13-1272-009; ER13-1273-009; ER13-1441-009; ER13-1442-009; ER13-521-009; ER15-2211-018.

Applicants: Pinyon Pines Wind I, LLC, Pinyon Pines Wind II, LLC, Solar Star California XIX, LLC, Solar Star California XX, LLC, Topaz Solar Farms LLC, CE Leathers Company, Del Ranch Company, Elmore Company, Fish Lake Power LLC, Salton Sea Power Generation Company, Salton Sea Power L.L.C., Vulcan/BN Geothermal Power Company, Yuma Cogeneration Associates, CalEnergy, LLC, MidAmerican Energy Services, LLC.

Description: Triennial Market Power Update for the Southwest Region of the BHE MBR Sellers.

Filed Date: 6/28/19.

Accession Number: 20190628-5331.

Comments Due: 5 p.m. ET 8/27/19.

Docket Numbers: ER18-1077-001; ER15-1218-008; ER16-38-006; ER16-39-005; ER17-157-004; ER17-2162-005; ER17-2163-005; ER17-2341-002; ER17-2453-002; ER18-1076-001; ER18-1775-003; ER18-713-001.

Applicants: GASNA 36P, LLC, CA Flats Solar 150, LLC, GASNA 6P, LLC, CA Flats Solar 130, LLC, Imperial Valley Solar 3, LLC, Moapa Southern Paiute Solar, LLC, SunE Beacon Site 2 LLC, Kingbird Solar A, LLC, Kingbird Solar B, LLC, Solar Star California XIII, LLC, 64KT 8me LLC, SunE Beacon Site 5 LLC.

Description: Triennial Market-Based Rate Update for the Capital Dynamics Southwest MBR Sellers.

Filed Date: 6/28/19.

Accession Number: 20190628-5337.

Comments Due: 5 p.m. ET 8/27/19.

Docket Numbers: ER18-1489-001; ER13-1101-026; ER13-1541-025; ER14-661-016; ER14-787-019; ER15-1475-011; ER15-2593-010; ER15-54-010; ER15-55-010; ER16-1154-008; ER16-1882-003; ER16-452-009; ER16-705-007; ER16-706-007; ER17-2508-002; ER17-252-003; ER17-532-002.

Applicants: SP Cimarron I, LLC, Parrey, LLC, Spectrum Nevada Solar, LLC, Campo Verde Solar, LLC, SG2 Imperial Valley LLC, Macho Springs Solar, LLC, Lost Hills Solar, LLC, Blackwell Solar, LLC, North Star Solar, LLC, Desert Stateline LLC, RE Tranquillity LLC, RE Garland A LLC, RE Garland LLC, Boulder Solar Power, LLC, RE Gaskell West 1 LLC, PPA Grand Johanna LLC, 2016 ESA Project Company, LLC.

Description: Compliance filing of SP Cimarron I, LLC, et. al. 2886-000.

Filed Date: 6/28/19.

Accession Number: 20190628-5332.

Comments Due: 5 p.m. ET 7/19/19.

Docket Numbers: ER19-1485-001.

Applicants: Southwest Power Pool, Inc.

Description: Compliance filing: Compliance Filing in ER19-1485—NIMECA Formula Rate to be effective 6/1/2019.

Filed Date: 7/1/19.

Accession Number: 20190701-5291.

Comments Due: 5 p.m. ET 7/22/19.

Docket Numbers: ER19-2277-001.

Applicants: ITC Midwest LLC.

Description: Tariff Amendment: ITC Midwest Supplemental Filing of Communications Sharing Agreement to be effective 6/28/2019.

Filed Date: 7/1/19.

Accession Number: 20190701-5273.

Comments Due: 5 p.m. ET 7/22/19.

Docket Numbers: ER19-2315-000.

Applicants: Midcontinent Independent System Operator, Inc., WPPI Energy.

Description: § 205(d) Rate Filing: 2019-07-01_WPPI Revisions to Attachments O, GG & MM to be effective 9/1/2019.

Filed Date: 7/1/19.

Accession Number: 20190701-5102.

Comments Due: 5 p.m. ET 7/22/19.

Docket Numbers: ER19-2316-000.

Applicants: Renewable Energy Asset Management Group, LLC.

Description: Baseline eTariff Filing: Application For Market Based Rate to be effective 7/2/2019.

Filed Date: 7/1/19.

Accession Number: 20190701-5103.

Comments Due: 5 p.m. ET 7/22/19.

Docket Numbers: ER19-2317-000.

Applicants: Midcontinent Independent System Operator, Inc., MidAmerican Energy Company.

Description: § 205(d) Rate Filing: 2019-07-01_SA 2787 MEC-IPL 1st Rev WDS (George) to be effective 9/1/2019.

Filed Date: 7/1/19.

Accession Number: 20190701-5220.

Comments Due: 5 p.m. ET 7/22/19.

Docket Numbers: ER19-2318-000.

Applicants: New York State Electric & Gas Corporation.

Description: § 205(d) Rate Filing: Rate Schedule FERC No. 87 Supplement to be effective 9/1/2019.

Filed Date: 7/1/19.

Accession Number: 20190701-5225.

Comments Due: 5 p.m. ET 7/22/19.

Docket Numbers: ER19-2319-000.

Applicants: Crystal Lake Wind II, LLC.

Description: Tariff Cancellation: Crystal lake Wind II, LLC Notice of Cancellation of Market-Based Rate Tariff to be effective 7/2/2019.

Filed Date: 7/1/19.

Accession Number: 20190701-5230.

Comments Due: 5 p.m. ET 7/22/19.

Docket Numbers: ER19-2320-000.

Applicants: Osceola Windpower, LLC.

Description: Tariff Cancellation: Osceola Windpower, LLC Notice of Cancellation of Market-Based Rate Tariff to be effective 7/2/2019.

Filed Date: 7/1/19.

Accession Number: 20190701-5235.

Comments Due: 5 p.m. ET 7/22/19.

Docket Numbers: ER19-2321-000.

Applicants: Osceola Windpower II, LLC.

Description: Tariff Cancellation: Osceola Windpower II, LLC Notice of Cancellation of Market-Based Rate Tariff to be effective 7/2/2019.

Filed Date: 7/1/19.

Accession Number: 20190701-5241.

Comments Due: 5 p.m. ET 7/22/19.

Docket Numbers: ER19-2322-000.

Applicants: Arizona Public Service Company.

Description: § 205(d) Rate Filing: Rate Schedule No. 211 to be effective 9/1/2019.

Filed Date: 7/1/19.

Accession Number: 20190701-5251.

Comments Due: 5 p.m. ET 7/22/19.

Docket Numbers: ER19-2323-000.

Applicants: Midcontinent Independent System Operator, Inc., Ameren Illinois Company.

Description: § 205(d) Rate Filing: 2019-07-01_SA 2012 Ameren-City of California, MO 1st Rev WDS to be effective 9/1/2019.

Filed Date: 7/1/19.

Accession Number: 20190701-5261.

Comments Due: 5 p.m. ET 7/22/19.

Docket Numbers: ER19-2324-000.

Applicants: Southwest Power Pool, Inc.

Description: § 205(d) Rate Filing: 3125R6 Basin Electric Power Cooperative NITSA NOA to be effective 6/1/2019.

Filed Date: 7/1/19.

Accession Number: 20190701-5279.

Comments Due: 5 p.m. ET 7/22/19.

Docket Numbers: ER19-2325-000.

Applicants: Alabama Power Company.

Description: § 205(d) Rate Filing: APCo-Gulf TFCAT A&R Service Agreements Amendment Filing to be effective 1/1/2019.

Filed Date: 7/1/19.

Accession Number: 20190701-5318.

Comments Due: 5 p.m. ET 7/22/19.

Take notice that the Commission received the following foreign utility company status filings:

Docket Numbers: FC19-1-000.

Applicants: I Squared Capital.

Description: Self-Certification of FC of I Squared Capital.

Filed Date: 6/28/19.

Accession Number: 20190628-5315.

Comments Due: 5 p.m. ET 7/19/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2019.
Nathaniel J. Davis, Sr.,
Deputy Secretary.

[FR Doc. 2019-14426 Filed 7-5-19; 8:45 am]

BILLING CODE 6717-01-P